ENVIRONMENTAL PROTECTION AGENCY

[ER-FRL-8587-5]

Environmental Impacts Statements; Notice of Availability

Responsible Agency: Office of Federal Activities, General Information (202) 564-1399 or http: //www.epa.gov/compliance/nepa/

Weekly receipt of Environmental Impact Statements

Filed 11/03/2008 through 11/07/2008.

Pursuant to 40 CFR 1506.9.

EIS No. 20080455, Final EIS, AFS, 00, Southern Rockies Canada Lynx Amendment, Preferred Alternative is Alternative F, Incorporating Management Direction for Canada Lynx Habitat by Amending Land and Resource Management Plans, for Arapaho-Roosevelt, Pike-San Isabel, Grand Mesa-Uncompahgre-Gunnison, San Juan, Rio Grande and Medicine Bow-Routt National Forests, Implementation, CO and WY, Wait Period Ends: 12/15/2008, Contact: Martha Delporte 303-275-5381.

EIS No. 20080456, Final EIS, COE, PA, Southern Beltway Transportation Project, Transportation Improvement between I-79 to Mon/Fayette Expressway (PA Turnpike43), Application for U.S. Army COE Section 404 Permit, Washington County, PA, Wait Period Ends: 12/15/2008, Contact: Scott A Hams 412-395-7154.

EIS No. 20080457, Final EIS, APH, 00, PROGRAMMATIC—Use of Genetically Engineered Fruit Fly and Pink Bollworm in APHIS Plant Pest Control Programs, Implementation, Wait Period Ends: 12/15/2008, Contact: David A. Bergsten 301-734-6103.

EIS No. 20080458, Final EIS, COE, CA, Natomas Levee Improvement Project, Issuing of 408 Permission and 404 Permit, Sacramento Area Flood Control Agency, Sutter and Sacramento, CA, Wait Period Ends: 12/15/2008, Contact: Elizabeth G. Holland 916-557-6763.

EIS No. 20080459, Final Supplement, COE, CA, Berth 136-147 [TraPac] Container Terminal Project, Updated Information on the Draft General Conformity Determination, Upgrade Existing Wharf Facilities, Install a Buffer Area between the Terminal and Community, U.S. Army COE Section 10 and 404 Permit, West Basin Portion of the Port of Los Angeles, CA, Wait Period Ends: 12/15/2008, Contact: Dr. Spencer D. MacNeil 805-585-2152.

EIS No. 20080460, Draft EIS, FHW, CO, I-70 East Project, Transportation Improvement from I-70 East from 1-25 to Tower Road, Funding, City and County Denver, CO, Comment Period Ends: 12/31/2008, Contact: Chris Horn 720-963-3017.

EIS No. 20080461, Draft EIS, FRC, 00, Hubline/East to West Project, Proposes to Modify its Existing Natural Gas Transmission Pipeline System in MA, CT, RI and NJ, Comment Period Ends: 12/29/2008, Contact: Patricia Schaub 1-866-208-3372.

EIS No. 20080462, Draft EIS, FRC, CA, South Feather Power Project, (Project No. 2088-068), Application to Relicense its 104-megawatt, South Fork Feather River, Lost Creek and Slate Creek, Butte, Yuba and Plumas Counties, CA, Comment Period Ends: 01/06/2009, Contact: John Mudre 202-502-8902.

EIS No. 20080463, Final EIS, FAA, NM, Spaceport America Commercial Launch Site, Proposal to Develop and Operate, Issuance of License, Sierra County, NM, Wait Period Ends: 12/15/2008, Contact: Stacey M. Zee 202-267-9305.

Amended Notices

EIS No. 20080072, Draft EIS, IBR, CO, Southern Delivery System Project, Water Supply Development, Execution of up to 40-year Contracts for Use of Fryingpan-Arkansas Project Facilities, Special Use Permit, El Paso County, CO, Comment Period Ends: 11/24/2008, Contact: Kara Lamb 970-663-3212.

EIS No. 20080450, Final EIS, NOA, 00, Amendment 16 to the Fishery Management Plan for the Snapper Grouper Fishery, Address Overfishing, Bycatch, Management Reference Points, and Allocations for Snapper Grouper Species, Implementation, South Atlantic Region, Wait Period Ends: 12/08/2008, Contact: Roy E. Crabtree 727-824-5305.

Revision to FR Notice Published 11/07/2008: Correction to Title.

Dated: November 10, 2008.
Ken Mittelholtz,
Environmental Protection Specialist, Office of Federal Activities.

[FR Doc. E8-27107 Filed 11-13-08; 8:45 am]

BILLING CODE 6560-50-P